DEPARTMENT OF STATE

[Public Notice: 4790]

United States—Egypt Science and Technology Joint Board; Public Announcement of a Science and Technology Program for Competitive Grants To Support International, Collaborative Projects in Science and Technology Between U.S. and Egyptian Cooperators

AGENCY: Department of State.

ACTION: Notice.

EFFECTIVE DATE: August 1, 2004.

FOR FURTHER INFORMATION CONTACT: Joan Mahoney, Program Administrator, U.S.-Egypt Science and Technology Grants Program, U.S. Embassy, Cairo/ECPO, Unit 64900, Box 6, APO AE 09839-4900; phone: 011-(20-2) 797-2925; fax: 011-(20-2) 797-3150; E-mail: mahoneyjm@state.gov.

The 2004 Program Announcement, including proposal guidelines, will be available starting August 1, 2004 on the Joint Board Web site: http://www.usembassy.egnet.net/usegypt/joint-st.htm.

SUPPLEMENTARY INFORMATION:

Authority: This program is established under 22 U.S.C. 2656d and the Agreement for Scientific and Technological Cooperation between the Government of the United States of America and the Government of the Arab Republic of Egypt. A solicitation for this program will begin August 1, 2004. This program will provide modest grants for successfully competitive proposals for binational collaborative projects and other activities submitted by U.S. and Egyptian experts. Projects must help the United States and Egypt utilize science and apply technology by providing opportunities to exchange ideas, information, skills, and techniques, and to collaborate on scientific and technological endeavors of mutual interest and benefit. Proposals which fully meet the submission requirements as outlined in the Program Announcement will receive peer reviews. Proposals considered for funding in Fiscal Year 2005 must be postmarked by November 8, 2004. All proposals will be considered; however, special consideration will be given to proposals that address priority areas defined/approved by the Joint Board. These include priorities in the areas of information technology, environmental technologies, biotechnology, energy, standards and metrology, and manufacturing technologies. More information on these priorities and copies of the Program Announcement/Application may be obtained by request.

Elizabeth Daugharty,
Acting Director, Office of Science and Technology Cooperation, Bureau of Oceans and International Environmental and Scientific Affairs, and Chair, U.S.-Egypt S&T Joint Board, Department of State.

[FR Doc. 04-17183 Filed 7-27-04; 8:45 am]

BILLING CODE 4710-09-P